DEPARTMENT OF THE INTERIOR

Fish and Wildlife Service

[FWS-R6- ES-2014- N010; FXES111306 00000D2- 123-FF06E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Kathy Konishi, Permit Coordinator Ecological Services, (303) 236-4212 (phone); permitsR6ES@fws.gov (email).

SUPPLEMENTARY INFORMATION: We have issued the following permits in response to recovery permit applications we received under the authority of section 10 of the Act (16 U.S.C. 1531 et seq.). Each permit listed below was issued only after we determined that it was applied for in good faith; that granting the permit would not be to the disadvantage of the listed species; and that the terms and conditions of the permit were consistent with purposes and policy set forth in the Act.

Applicant name | Permit No. | Date issued | Date expired
BELLINI ENVIRONMENTAL CONSULTING | 060668 | 9/13/2013 | 6/30/2018
BUREAU OF LAND MANAGEMENT | 073201 | 7/10/2013 | 6/30/2018
BUREAU OF LAND MANAGEMENT | 165829 | 7/29/2013 | 3/31/2018
COLORADO STATE UNIVERSITY | 046795 | 10/29/2013 | 12/31/2018
FELSBURG HOLT & ULLEVIG, INC. | 09941B | 8/20/2013 | 6/30/2018
IRON COUNTY COMMISSION | 20942B | 11/4/2013 | 12/31/2112
KANSAS CITY ZOO | 183432 | 12/30/2013 | 12/31/2018
KANSAS STATE UNIVERSITY | 067729 | 7/8/2013 | 6/30/2018
NATIONAL PARK SERVICE | 057485 | 7/8/2013 | 3/31/2018
NATIONAL PARK SERVICE | 145090 | 12/2/2013 | 12/31/2018
POWER ENGINEERS | 237960 | 12/30/2013 | 12/31/2018
U.S. FISH AND WILDLIFE SERVICE | 18695B | 10/23/2013 | 12/31/2063
UNIVERSITY OF NEBRASKA AT KEARNEY | 045150 | 9/13/2013 | 6/30/2018
U.S. GEOLOGICAL SURVEY | 047282 | 7/19/2013 | 6/30/2018
UTAH STATE UNIVERSITY | 07858A | 7/17/2013 | 6/30/2018
UTAH STATE UNIVERSITY | 049748 | 8/13/2013 | 3/31/2018
VIRGINIA POLYTECHNIC INSTITUTE | 103272 | 7/17/2013 | 9/30/2018
WYOMING GAME AND FISH DEPARTMENT | 067397 | 7/29/2013 | 3/31/2018

Availability of Documents

Documents and other information submitted with these applications are available for review, subject to the requirements of the Privacy Act and Freedom of Information Act, by any party who submits a written requires for a copy of such documents to Kathy Konishi (see FOR FURTHER INFORMATION CONTACT).

Authority

We provide this notice under section 10 of the Act (16 U.S.C. 1531 et seq.)

Dated: January 30, 2014.
Nicole Alt,
Acting Assistant Regional Director, Mountain-Prairie Region.

[FR Doc. 2014-02385 Filed 2-4-14; 8:45 am]

BILLING CODE 4310-55-P